ADVISORY COMMISSION ON INTERGOVERNMENTAL RELATIONS

5 CFR Chapter VII

Removal of CFR Chapter

Effective November 15, 1995, the Advisory Commission on Intergovernmental Relations (ACIR) was terminated by the Treasury, Postal Service, and General Government Appropriations Act of 1996, Pub. L. 104-52, 109 Stat. 468. On October 19, 1996, in Pub. L. 104-328, 110 Stat. 4004, Congress provided for the continued existence of the ACIR solely for the purposes of performing any contract entered into pursuant to section 7(a) of the National Gambling Impact Study Commission Act (NGISCA) (Pub. L. 104-169, 110 Stat. 1487 (1996)). Under § 7(a) of the NGISCA the ACIR was required to submit a report to the National Gambling Impact Study Commission on the results of its efforts under the contract no later than 15 months after the first meeting of the National Gambling Impact Study Commission. Pursuant to Pub. L. 104-328, 110 Stat. 4004, the ACIR would terminate on the date of the completion of the contract. The final report of the National Gambling Impact Study Commission was published in 1999. Upon publication of the final report of the National Gambling Impact Study Commission, the statutory requirements of both the National Gambling Impact Study Commission and the ACIR were completed. Therefore, the Office of the Federal Register is removing ACIR regulations from the Code of Federal Regulations pursuant to its authority to maintain an orderly system of codification under 44 U.S.C. 1510 and 1 CFR Part 8.

Accordingly, 5 CFR is amended by removing parts 1700 through 1720 and vacating Chapter VII.

[FR Doc. 02-55514 Filed 5-7-02; 8:45 am]

BILLING CODE 1505-01-D